DEPARTMENT OF ENERGY

Federal Energy Regulatory Commission

Combined Notice of Filings # 1

November 15, 2010.

Take notice that the Commission received the following land acquisition reports:

Docket Numbers: LA10-3-000.

Applicants: Pacific Gas and Electric Company.

Description: Report/Form of Pacific Gas and Electric Company.

Filed Date: 10/21/2010.

Accession Number: 20101021-5060.

Comment Date: 5 p.m. Eastern Time on Friday, November 19, 2010.

Docket Numbers: LA10-3-000.

Applicants: Bendwind, LLC; Big Sky Wind, LLC; DeGreeff DP, LLC; DeGreeffpa, LLC; CL Power Sales Eight, L.L.C.; Coalinga Cogeneration Company; CP Power Sales Nineteen, L.L.C.; CP Power Sales Seventeeen, L.L.C.; CP Power Sales Twenty, L.L.C.; Edison Mission Marketing & Trading, Inc.; Edison Mission Solutions, LLC; Elkhorn Ridge Wind, LLC; EME Homer City Generation, L.P.; Forward WindPower, LLC; Groen Wind, LLC; High Lonesome Mesa; Hillcrest Wind, LLC; Jeffers Wind 20, LLC; Kern River Cogeneration Company; Loredo Ridge Wind, LLC; Larswind, LLC; Lookout WindPower, LLC; Mid-Set Cogeneration Company; Midway-Sunset Cogeneration Company; Midwest Generation, LLC; Mountain Wind Power, LLC; Mountain Wind Power II, LLC; Salinas River Cogeneration Company; San Juan Mesa Wind Project, LLC; Sargent Canyon Cogeneration Company; Sierra Wind, LLC; Sleeping Bear, LLC; Southern California Edison Company; TAIR Windfarm, LLC; Walnut Creek Energy, LLC; Watson Cogeneration Company; Wildorado Wind, LLC; Taloga Wind, LLC.

Description: Q3 2010 CIS in Dkt. No. LA10-3 of Edison International.

Filed Date: 10/21/2010.

Accession Number: 20101021-5077.

Comment Date: 5 p.m. Eastern Time on Friday, November 19, 2010.

Docket Numbers: LA10-3-000.

Applicants: East Coast Power Linden Holding, LLC; Cogen Technologies Linden Venture, L.P.; Fox Energy Company LLC; Birchwood Power Partners, L.P.; Shady Hills Power Company, LLC; EFS Parlin Holdings, LLC; Inland Empire Energy Center, LLC.

Description: 3Q 2010 Site Report of GE Companies.

Filed Date: 10/21/2010.

Accession Number: 20101021-5102.

Comment Date: 5 p.m. Eastern Time on Friday, November 19, 2010.

Docket Numbers: LA10-3-000.

Applicants: Cloud County Wind Farm LLC.

Description: Cloud County Wind Farm LLC Notice of Non-Material Change in Status.

Filed Date: 10/25/2010.

Accession Number: 20101025-5302.

Comment Date: 5 p.m. Eastern Time on Friday, November 19, 2010.

Docket Numbers: LA10-3-000.

Applicants: CinCap IV, LLC; CinCap V, LLC; Cinergy Capital Trading, Inc.; Duke Energy Commercial Asset Management, Inc.; Duke Midwest Operating Companies; Duke Energy Carolinas, LLC; Duke Energy Indiana, Inc.; Duke Energy Kentucky, Inc.; Duke Energy Ohio, Inc.; Duke Energy Retail Sales, LLC; Duke Energy Trading and Marketing, LLC; Happy Jack Windpower, LLC; North Allegheny Wind, LLC; Silver Sage Windpower, LLC; St. Paul Cogeneration, LLC; Three Buttes Windpower, LLC; Kit Carson Windpower, LLC; Top of the World Energy, LLC.

Description: Duke Energy Corporation submits Land Acquisition Quarterly Report.

Filed Date: 10/27/2010.

Accession Number: 20101027-5050.

Comment Date: 5 p.m. Eastern Time on Wednesday, November 17, 2010.

Docket Numbers: LA10-3-000.

Applicants: Duquesne Power, LLC; Duquesne Light Company; Duquesne Keystone LLC; Duquesne Conemaugh LLC; Macquarie Energy LLC.

Description: Reporting Site for New Generation Capacity Development of Macquarie Energy LLC, et. al.

Filed Date: 10/27/2010.

Accession Number: 20101027-5165.

Comment Date: 5 p.m. Eastern Time on Wednesday, November 17, 2010.

Docket Numbers: LA10-3-000.

Applicants: ArcLight Energy Marketing, LLC; Coso Geothermal Power Holdings, LLC; Oak Creek Wind Power, LLC.

Description: Land Acquisition Site Reporting of ArcLight Energy Marketing, LLC, Coso Geothermal Power Holdings, LLC, and Oak Creek Wind Power, LLC.

Filed Date: 10/28/2010.

Accession Number: 20101028-5130.

Comment Date: 5 p.m. Eastern Time on Thursday, November 18, 2010.

Docket Numbers: LA10-3-000.

Applicants: Spring Canyon Energy LLC; Judith Gap Energy LLC; Invernergy TN LLC; Wolverine Creek Energy LLC; Grays Harbor Energy LLC; Forward Energy LLC; Grand Ridge Energy LLC; Willow Creek Energy LLC; Sheldon Energy LLC; Hardee Power Partners Limited; Spindle Hill Energy LLC; Invernergy Cannon Falls LLC; Beech Ridge Energy II LLC; Grand Ridge Energy III LLC; Grand Ridge Energy IV LLC; Grand Ridge Energy V LLC; Vantage Wind Energy LLC; Grand Ridge Energy II LLC.

Description: Site Report 2010 Third Quarter of Spring Canyon Energy LLC, et. al.

Filed Date: 10/29/2010.

Accession Number: 20101029-5128.

Comment Date: 5 p.m. Eastern Time on Friday, November 19, 2010.

Docket Numbers: LA10-3-000.

Applicants: Astoria Generating Company, L.P.; Boston Generating, LLC; Fore River Development, LLC; Mystic I, LLC; Mystic Development, LLC.

Description: Quarterly Land Acquisition Report of Astoria Generating Company, L.P.

Filed Date: 10/29/2010.

Accession Number: 20101029-5198.

Comment Date: 5 p.m. Eastern Time on Friday, November 19, 2010.

Docket Numbers: LA10-3-000.

Applicants: Alabama Electric Marketing, LLC; Big Sandy Peaker Plant, LLC; California Electric Marketing, LLC; Crete Energy Venture, LLC; High Desert Power Project, LLC; Kiowa Power Partners, LLC; Lincoln Generating Facility, LLC; New Covert Generating Company, LLC; New Mexico Electric Marketing, LLC; Rolling Hills Generating, L.L.C.; Tenaska Alabama Partners, Ltd.; Tenaska Alabama II Partners, L.P.; Tenaska Frontier Partners, Ltd; Tenaska Gateway Partners, Ltd; Tenaska Georgia Partners, L.P.; Tenaska Gateway Partners, Ltd; Tenaska Georgia Partners, L.P.; Tenaska Power Services Co.; Tenaska Virginia Partners, L.P.; Tenaska Washington Partners, L.P.; Tenaska Electric Marketing, LLC; University Park Energy, LLC; Wolf Hills Energy, LLC.

Description: Quarterly Land Acquisition Report of Alabama Electric Marketing, LLC.

Filed Date: 10/29/2010.

Accession Number: 20101029-5239.

Comment Date: 5 p.m. Eastern Time on Friday, November 19, 2010.

Docket Numbers: LA10-3-000.

Applicants: Niagara Generation, LLC.

Description: Land Acquisition Report for (3Q 2010) of Niagara Generation, LLC.

Filed Date: 11/01/2010.

Accession Number: 20101101-5189.

Comment Date: 5 p.m. Eastern Time on Monday, November 22, 2010.

Docket Numbers: LA10-3-000.

Applicants: Iberdrola Renewables, Inc.; Atlantic Renewable Projects II LLC; Barton Windpower LLC; Big Horn Wind Project LLC; Big Horn II Wind Project LLC; Buffalo Ridge I LLC; Buffalo Ridge II LLC; Casselman Windpower LLC; Colorado Green Holdings LLC; Dillon Wind LLC; Dry Lake Wind Power, LLC; Dry Lake Wind Power II, LLC; Elk River Windfarm, LLC; Elm Creek Wind, LLC; Elm Creek Wind II LLC; Flat Rock Windpower LLC; Flat Rock Windpower II LLC; Flying Cloud Power Partners, LLC; Hardscrabble Wind Power LLC; Hay Canyon Wind LLC; Juniper Canyon Wind Power LLC; Klamath Energy LLC; Klamath Generation LLC; Klondike Wind Power LLC; Klondike Wind Power II LLC; Klondike Wind Power III LLC; Leaning Juniper Wind Power II LLC; Lempster Wind, LLC; Locust Ridge Wind Farm, LLC; Locust Ridge Wind Farm II, LLC; MinnDakota Wind LLC; Moraine Wind LLC; Moraine Wind II LLC; Mountain View Power Partners III, LLC; Pebble Springs Wind LLC; Providence Heights Wind, LLC; Rugby Wind LLC; Shiloh I Wind Project, LLC; Star Point Wind Project LLC; Streator-Cayuga Ridge Wind Power LLC; Trimont Wind I LLC; Twin Buttes Wind LLC; Northern Iowa Windpower II LLC; Farmers City Wind II LLC.

Description: Land Acquisition Report of Iberdrola Renewables, Inc., et. al.

Filed Date: 11/01/2010.

Accession Number: 20101101-5188.

Comment Date: 5 p.m. Eastern Time on Monday, November 22, 2010.

Docket Numbers: LA10-3-000.

Applicants: Arlington Valley, LLC; Bluegrass Generation Company, L.L.C.; Bridgeport Energy LLC; DeSoto County Generating Company, LLC; Griffith Energy LLC; Las Vegas Power Company, LLC; LS Power Marketing, LLC; Renaissance Power, L.L.C.; Riverside Generating Company, L.L.C.; Rocky Road Power, LLC; Tilton Energy LLC.

Description: Quarterly Land Acquisition Report of Arlington Valley, LLC, et al.

Filed Date: 11/01/2010.

Accession Number: 20101101-5190.

Comment Date: 5 p.m. Eastern Time on Monday, November 22, 2010.

Docket Numbers: LA10-3-000.

Applicants: El Dorado Energy, LLC; Elk Hills Power, LLC; Fowler Ridge II Wind Farm LLC; Gateway Energy Services, Corp; Mesquite Power, LLC; MXenergy Electric Inc.; San Diego Gas & Electric Company; Sempra Energy Trading LLC; Sempra Generation; Termoelectrica U.S., LLC.

Description: Land Acquisition Report of San Diego Gas & Electric Company.

Filed Date: 11/01/2010.

Accession Number: 20101101-5199.

Comment Date: 5 p.m. Eastern Time on Monday, November 22, 2010.

Docket Numbers: LA10-3-000.

Applicants: Consumers Energy Company; CMS Energy Resource Management Company; Grayling Generating Station Limited Partnership; Genesee Power Station Limited Partnership; CMS Generation Michigan Power, L.L.C.; Dearborn Industrial Generation, L.L.C.

Description: Land Acquisition Report of Consumers Energy Company, et al.

Filed Date: 11/01/2010.

Accession Number: 20101101-5205.

Comment Date: 5 p.m. Eastern Time on Monday, November 22, 2010.

Docket Numbers: LA10-3-000.

Applicants: Ashtabula Wind, LLC; Ashtabula Wind II, LLC; Ashtabula Wind III, LLC; Backbone Mountain Windpower LLC; Badger Windpower, LLC; Baldwin Wind, LLC; Bayswater Peaking Facility, LLC; Blythe Energy, LLC; Butler Ridge Wind Energy Center, LLC; Calhoun Power Company I, LLC; Crystal Lake Wind, LLC; Crystal Lake Wind II, LLC; Crystal Lake Wind III, LLC; Day County Wind, LLC; Diablo Winds, LLC; Doswell Limited Partnership; Elk City Wind, LLC; ESI Vansycle Partners, L.P.; Florida Power & Light Company; FPL Energy Burleigh County Wind, LLC; FPL Energy Cabazon Wind, LLC; FPL Energy Cape, LLC; FPL Energy Cowboy Wind, LLC; FPL Energy Green Power Wind, LLC; FPL Energy Hancock County Wind, LLC; FPL Energy Illinois Wind, LLC; FPL Energy Maine Hydro LLC; FPL Energy Marcus Hook, L.P.; FPL Energy MH50 L.P.; FPL Energy Mower County, LLC; FPL Energy New Mexico Wind II, LLC; FPL Energy North Dakota, LLC; FPL Energy North Dakota, LLC FPL Oklahoma Wind, LLC; FPL Energy Oliver Wind I, LLC; FPL Energy Oliver Wind II, LLC; FPL Energy Sooner Wind, LLC; FPL South Dakota Wind, LLC; FPL Energy Stateline II, Inc.; FPL Energy Vansycle, LLC; FPL Energy Wyman, LLC; FPL Energy Wyman IV, LLC; FPL Energy Wyoming, LLC; FPLE Rode Island State Energy, L.P.; Garden Wind, LLC; Gexa Energy LP; Gray County Wind Energy, LLC; Hawkeye Power Partners, LLC; High Majestic Wind Energy Center, LLC; High Winds, LLC; Jamaica Bay Peaking Facility, LLC; Lake Benton Power Partners II, LLC; Langdon Wind, LLC; Logan Wind Energy LLC; Meyersdale Windpower LLC; Mill Run Windpower, LLC; Minco Wind, LLC; NextEra Energy Duane Arnold, LLC; NextEra Energy Power Marketing, LLC; NextEra Energy Point Beach, LLC; NextEra Energy Seabrook, LLC; Northeast Energy Associates, LP; North Jersey Energy Associates, LP; Northern Colorado Wind Energy, LLC; Osceola Windpower, LLC; Osceola Windpower II, LLC; Peetz Table Wind Energy, LLC; Pennsylvania Windfarms, Inc.; Sky River LLC; Somerset Windpower, LLC; Story Wind, LLC; Victory Garden Phase IV, LLC; Waymart Wind Farm, L.P.; Wessington Wind Energy Center, LLC; Wilton Wind II, LLC.

Description: Third Quarter 2010 Site Control Quarterly Filing of the NextEra Energy Companies submitted two days out-of-time.

Filed Date: 11/03/2010.

Accession Number: 20101103-5119.

Comment Date: 5 p.m. Eastern Time on Wednesday, November 24, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-29321 Filed 11-19-10; 8:45 am]

BILLING CODE 6717-01-P